INTERNATIONAL TRADE COMMISSION

Sunshine Act Meeting

Agency Holding the Meeting: International Trade Commission.

Time and Date: September 28, 2000, at 2 p.m.

Place: Room 101, 500 E Street SW., Washington, DC 20436, Telephone (202) 205-2000.

Status: Open to the public.

Matters to be Considered:

1. Agenda for future meetings: none.

2. Minutes.

3. Ratification List.

4. Inv. Nos. 731-TA-888-890 (Preliminary) (Stainless Steel Angle from Japan, Korea, and Spain)—briefing and vote. (The Commission is currently scheduled to transmit its determination to the Secretary of Commerce on October 2, 2000; (Commissioners' opinions are currently scheduled to be transmitted to the Secretary of Commerce on October 10, 2000.

5. Outstanding action jackets: none.

In accordance with Commission policy, subject matter listed above, not disposed of at the scheduled meeting, may be carried over to the agenda of the following meeting.

Issued: September 19, 2000.
By order of the Commission.
Donna R. Koehnke,
Secretary.

[FR Doc. 00-24417 Filed 9-19-00; 1:41 pm]

BILLING CODE 7020-02-M